DEPARTMENT OF COMMERCE

Foreign-Trade Zones Board

[Order No. 1503]

Approval of Request for Manufacturing Authority (Wheel Assembly), Foreign-Trade Subzone 22N, Michelin North America, Inc., Monee, Illinois

Pursuant to its authority under the Foreign-Trade Zones Act of June 18, 1934, as amended (19 U.S.C. 81a-81u), the Foreign-Trade Zones Board (the Board) adopts the following Order:

Whereas, the Illinois International Port District, grantee of Foreign-Trade Zone 22, has applied for manufacturing authority under zone procedures within Subzone 22N, at the Michelin North America, Inc., tire-distribution facility located in Monee, Illinois, to conduct wheel assembly (FTZ Docket 4-2006; filed 2/2/2006);

Whereas, notice inviting public comment has been given in the Federal Register (71 FR 7008, 2/10/06); and,

Whereas, the Board adopts the findings and recommendations of the examiner's report, and finds that the requirements of the FTZ Act and the Board's regulations are satisfied, and that the proposal is in the public interest;

Now, therefore, the Board hereby approves the request for manufacturing authority related to wheel assembly, as described in the application and in the Federal Register notice, subject to the FTZ Act and the Board's regulations, including Section 400.28.

Signed at Washington, DC, this 28th day of February 2007.
David M. Spooner,
Assistant Secretary of Commerce for Import Administration, Alternate Chairman, Foreign-Trade Zones Board.

[FR Doc. E7-4286 Filed 3-8-07; 8:45 am]

BILLING CODE 3510-DS-P